NATIONAL SCIENCE FOUNDATION

Proposal Review Panel for Chemistry; Notice of Meeting

In accordance with the Federal Advisory Committee Act (Pub. L. 92-463 as amended), the National Science Foundation announces the following meeting:

Name: ChemMatCARS Site Visit, 2011 Awardees by NSF Division of Chemistry (1191).

Dates & Times: July 23, 2012; 8:00 a.m.-6:00 p.m.; July 24, 2012; 8:00 a.m.-5:00 p.m.

Place: ChemMatCARS, 9700 S. Cass Avenue, Argonne, IL 60439.

Type of Meeting: Part-open.

Contact Person: Dr. Carlos Murillo, Program Director, Division of Chemistry, Room 1055, National Science Foundation, 4201 Wilson Boulevard, Arlington, VA 22230, Telephone (703) 292-4970.

Purpose Of Meeting: To evaluate and give recommendations on the progress and the direction of research and other activities of the ChemMatCARS award to determine further NSF support.

Agenda:

Monday, July 23, 2012

8:00 a.m.-9:30 a.m. Closed—Panel Briefing and Discussion

9:30 a.m.-11:45 a.m. Open—Presentations, Discussion, and Q&A

11:45 a.m.-1:00 p.m. Closed—Lunch/Panel Discussion

1:00 p.m.-3:15 p.m. Open—Presentations, Discussion and Q&A

3:15 p.m.-6:00 p.m. Closed—Panel Discussion

Tuesday, July 24, 2012

8:00 a.m.-8:30 a.m. Closed—Panel Discussion

8:30 a.m.-10:45 a.m. Open—Presentations, Discussion and Q&A

10:45 a.m.-12:00 p.m. Closed—Lunch/Panel Discussion

12:00 p.m.-1:45 p.m. Open—Presentations, Discussion and Q&A

2:15 p.m.-5:00 p.m. Closed—Panel Discussion

Reason for Late Notice: Due to unforeseen administrative complications and the necessity to proceed with the review of the proposal.

Reason for Closing: The work being reviewed may include information of a proprietary or confidential nature, including technical information; financial data, such as salaries and personal information concerning individuals associated with the proposals. These matters are exempt under 5 U.S.C. 552b(c), (4) and (6) of the Government in the Sunshine Act.

Dated: July 13, 2012.
Susanne Bolton,
Committee Management Officer.

[FR Doc. 2012-17435 Filed 7-17-12; 8:45 am]

BILLING CODE 7555-01-P